DEPARTMENT OF ENERGY

Federal Energy Regulatory Commission

[Docket No. ER06-56-000]

Midwest Electric Transmission Company, Midwest Independent Transmission, System Operator, Inc.; Notice of Informal Settlement Conference

November 15, 2006.

Take notice that an informal settlement conference will be convened in this proceeding commencing at 11 a.m. on November 20, 2006, at the offices of the Federal Energy Regulatory Commission, 888 First Street, NE., Washington, DC 20426, for the purpose of exploring the possible settlement of the above-referenced docket.

Any party, as defined by 18 CFR 385.102(c), or any participant as defined by 18 CFR 385.102(b), is invited to attend. Persons wishing to become a party must move to intervene and receive intervenor status pursuant to the Commission's regulations (18 CFR 385.214).

FERC conferences are accessible under section 508 of the Rehabilitation Act of 1973. For accessibility accommodations please send an e-mail to accessibility@ferc.gov or call toll free 1-866-208-3372 (voice) or 202-208-1659 (TTY), or send a FAX to (202) 208-2106, with the required accommodations.

For additional information, please contact Renee Terry, renee.terry@ferc.gov, (202) 502-6057.

Magalie R. Salas,
Secretary.

[FR Doc. E6-19916 Filed 11-24-06; 8:45 am]

BILLING CODE 6717-01-P